DEPARTMENT OF HEALTH AND HUMAN SERVICES

Health Resources and Services Administration

Centers of Excellence in Maternal and Child Health in Education, Science, and Practice Program

AGENCY: Health Resources and Services Administration (HRSA), Department of Health and Human Services (HHS).

ACTION: Notice of Single-Case Deviation from Competition Requirements for Program Expansion Supplement Request for Centers of Excellence in Maternal and Child Health in Education, Science, and Practice program Award to the University of Washington, Grant Number T76MC00011.

SUMMARY: HRSA announces the award of a program expansion supplement in the amount of $40,000 for the Centers of Excellence in Maternal and Child Health (MCH) in Education, Science, and Practice grant. The purpose of the Centers of Excellence in MCH program is for the training of graduate and post-graduate public health professionals in an interdisciplinary MCH setting. The purpose of this notice is to award supplemental funds to conduct a rigorous evaluation of the Pediatric Obesity Collaborative Improvement and Innovation Network (CoIIN) to spread evidence-based practices, and to translate knowledge into practice by the University of Washington, the awardee who serves as the Centers of Excellence in MCH, during the budget period of June 1, 2015, through May 31, 2016.

SUPPLEMENTARY INFORMATION:

Intended Recipient of the Award: University of Washington

Amount of Each Non-Competitive Award: $40,000

Period of Supplemental Funding: 6/1/2015—5/31/2016

CFDA Number: 93.110

Authority: Social Security Act as amended, Title V, Section 501(a)(2) (42 U.S.C. 701(a)(2))

Justification: The purpose of the Centers of Excellence in MCH program is for the training of graduate and post-graduate public health professionals in an interdisciplinary MCH setting. The Centers of Excellence in MCH program supports HRSA's Maternal and Child Health Bureau's (MCHB) mission to provide national leadership and to work, in partnership with states, communities, public-private partners, and families to strengthen the MCH infrastructure and build the knowledge and human resources in order to assure continued improvement in the health, safety, and well-being of the MCH population, which includes all U.S. women, infants, children, youth and their families, including fathers and children with special health care needs (CSHCN). It does so by training current and future workforce in applied research and state-of-the-art public health management, planning, and leadership principles to promote healthier children, families, and communities and in the identification and solution of current MCH problems while anticipating the challenges of the future. It assures a prominent focus on MCH content and competencies such as inter-professional practice, systems integration, and quality improvement within schools of public health.

In the summer of 2014, MCHB initiated a CoIIN on Pediatric Obesity in collaboration with the University of Washington and the Association of State Public Health Nutritionists (ASPHN). The work on this project (by the University of Washington) was funded through an administrative supplement in fiscal year (FY) 2014 to a previous grant, and the amount provided only allowed the grantee and its subcontractor to engage a limited number of steps in the CoIIN process.

This supplement will allow the University of Washington, in collaboration with ASPHN, to complete the final phases of the evaluation component for the previously initiated Pediatric Obesity CoIIN. The goal of this CoIIN project is to apply quality improvement methodologies through a CoIIN framework to support state Title V agencies and others leverage for state MCH program capacity to reduce childhood obesity rates on a population level. Specifically, state teams are working to affect systems changes through the adoption of policies and practices in early care and education settings that support healthy weight behaviors and are using the CoIIN model to gather best practices, promote evidence-based strategies, and increase nutrition resources provided to young children and their families. A rigorous evaluation of this CoIIN is a critical and essential component in order to spread evidence-based practices—including qualitative and quantitative process and outcome measures—and translate knowledge into practice.

FOR FURTHER INFORMATION CONTACT: Denise Sofka, RD, MPH, Division of Maternal and Child Health Workforce Development, Maternal and Child Health Bureau, Health Resources and Services Administration, 5600 Fishers Lane, Room 18W55, Rockville, Maryland 20857; DSofka@hrsa.gov.

Grantee/organization name | Grant number | State | FY 2015 authorized funding level | FY 2015 estimated supplemental funding
University of Washington | T76MC00011 | WA | $350,000 | $40,000

Dated: September 11, 2015.
James Macrae,
Acting Administrator.

[FR Doc. 2015-23356 Filed 9-16-15; 8:45 am]

BILLING CODE 4165-15-P